DEPARTMENT OF ENERGY

Federal Energy Regulatory Commission

[Docket No. CP02-17-000]

Texas Eastern Transmission, LP; Notice of Site Review

January 15, 2002.

On January 24, 2002, the staff of the Office of Energy Projects (OEP) will conduct a site review of the proposed Freehold Project. The Freehold Project facilities are proposed for construction by Texas Eastern Transmission, LP (Texas Eastern). The proposed construction sites, located in Somerset and Hunterdon Counties, New Jersey, will be reviewed by automobile on January 24, 2002. Representatives of Texas Eastern will accompany the OEP staff.

Anyone interested in attending the site review or obtaining further information may contact the Commission's Office of External Affairs at (202) 208-1088. Attendees must provide their own transportation.

Linwood A. Watson, Jr.,
Acting Secretary.

[FR Doc. 02-1462 Filed 1-18-02; 8:45 am]

BILLING CODE 6717-01-P